DEPARTMENT OF THE INTERIOR

Fish and Wildlife Service

[FWS-R4-ES-2014-N167; FXES11130400000C2-145-FF04E00000]

Endangered and Threatened Wildlife and Plants; Final Recovery Plan for Georgia Pigtoe Mussel, Interrupted Rocksnail, and Rough Hornsnail

AGENCY: Fish and Wildlife Service, Interior.

ACTION: Notice of availability.

SUMMARY: We, the Fish and Wildlife Service, announce the availability of the final recovery plan for the endangered Georgia pigtoe mussel, interrupted rocksnail, and rough hornsnail. The final recovery plan includes specific recovery objectives and criteria the interrupted rocksnail and rough hornsnail would have to meet in order for us to downlist them to threatened status under the Endangered Species Act of 1973, as amended (Act). Recovery criteria for the Georgia pigtoe will be developed after we complete critical recovery actions and gain a greater understanding of the species.

ADDRESSES: You may obtain a copy of the recovery plan by contacting Jeff Powell at the Alabama Field Office, by U.S. mail at U.S. Fish and Wildlife Service, Alabama Field Office, 1208-B Main Street, Daphne, AL 36526, or by telephone at (251) 441-5858; or by visiting our recovery plan Web site at http://www.fws.gov/endangered/species/recovery-plans.html.

FOR FURTHER INFORMATION CONTACT: Jeff Powell (see ADDRESSES above).

SUPPLEMENTARY INFORMATION:

Introduction

We listed the Georgia pigtoe mussel (Pleurobema hanleyianum), interrupted rocksnail (Leptoxis foremani), and rough hornsnail (Pleurocera foremani) as endangered species under the Act (16 U.S.C. 1531 et seq.) on November 2, 2010 (75 FR 67512). All three species are endemic to the Coosa River drainage of the Mobile River Basin in Alabama and Georgia; the Georgia pigtoe also occurs in a Coosa River tributary in Tennessee. All three species have disappeared from 90 percent or more of their historical ranges, primarily due to impoundment of riverine habitats. A single population of interrupted rocksnail is known to survive in the Oostanaula River, Georgia. There are five localized populations of rough hornsnail, one each in Yellowleaf Creek, Alabama; lower Walnut Creek, Alabama; lower Hatchet and Weogufka Creeks, Alabama; and the lower Coosa River, Alabama. Surviving populations of Georgia pigtoe occur in the Conasauga River, Georgia, and possibly in the Coosa River (Weiss Bypass), Alabama. Both the rough hornsnail and interrupted rocksnail are State listed as a Priority 1 (P1) species in Alabama, while the Georgia pigtoe is State listed as endangered in Georgia.

Approximately 258 km (160 mi) of stream channels in the Coosa River drainage have been designated as critical habitat for the interrupted rocksnail (101 km (63 mi)), rough hornsnail (27.4 km (17 mi)), and Georgia pigtoe mussel (153 km (95 mi)). Critical habitat is located in Cherokee, Clay, Coosa, Elmore and Shelby Counties, Alabama; Gordon, Floyd, Murray, and Whitfield Counties, Georgia; and Bradley and Polk Counties, Tennessee.

The Georgia pigtoe mussel has a Federal recovery priority number of 5, which indicates that the species faces a high degree of threat but also has a low recovery potential. The interrupted rocksnail and rough hornsnail both have a recovery priority number of 2, which indicates that both species are facing a high degree of threat but have a high recovery potential.

Background

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide public notice and an opportunity for public review and comment during recovery plan development. We will consider all information presented during a public comment period prior to approval of each new or revised recovery plan. We and other Federal agencies will take these comments into account in the course of implementing approved recovery plans.

We made the draft of this recovery plan available for public comment from July 3, 2013, through September 3, 2013 (78 FR 40162). We received no public comments. We considered the information received from peer reviewers in our preparation and approval of this final recovery plan.

Recovery Plan Components

The Service's recovery objectives are to work to reduce threats so that the interrupted rocksnail and rough hornsnail may be downlisted to threatened status, and to prevent further decline of the Georgia pigtoe's Conasauga River population and prevent extinction of the species as a whole. Defining reasonable downlisting or delisting criteria for the Georgia pigtoe is not possible at this time, given the current low number of populations and individuals, lack of information about the species' biology, and magnitude of threats. Therefore, this recovery plan only establishes downlisting criteria for the two snails. Instead of establishing downlisting or delisting criteria at this time for Georgia pigtoe, we are identifying preliminary actions to help us prevent its extinction until we can obtain further information on this species and determine recovery criteria.

Downlisting of the interrupted rocksnail and rough hornsnail will be considered when we:

1. Protect and manage at least three geographically distinct populations for each species (to achieve this criterion, the populations can include the Oostanaula for the interrupted rocksnail and Yellowleaf Creek and Lower Coosa River for the rough hornsnail);

2. Achieve demonstrated and sustainable natural reproduction and recruitment in each population for each species as evident by multiple age classes of individuals, including naturally recruited juveniles, and recruitment rates exceeding mortality rates for a period of 5 years; and

3. Develop and implement habitat and population monitoring programs for each population.

The following actions are identified as necessary to help prevent the extinction of the Georgia pigtoe:

1. Maintain, and where possible conduct efforts to improve, the Conasauga River population;

2. Develop and implement a monitoring plan to evaluate population size in response to management actions;

3. Develop a captive propagation program and establish an ark population (a secure, maintained captive population) to help support the Conasauga River population;

4. Conduct research, such as identification of an appropriate fish host, that is important to gain better understanding of this mussel's life history; and

5. Identify, monitor, and where possible improve potential reintroduction sites in the species' historic range.

Authority

The authority for this action is section 4(f) of the Endangered Species Act, 16 U.S.C. 1533 (f).

Dated: August 20, 2014.
Mike Oetker,
Acting Regional Director, Southeast Region.

[FR Doc. 2014-26362 Filed 11-4-14; 8:45 am]

BILLING CODE 4310-55-P